DEPARTMENT OF HEALTH AND HUMAN SERVICES

Administration for Children and Families

Reallotment of FY 2011 Funds for the Low Income Home Energy Assistance Program (LIHEAP)

AGENCY: Office of Community Services, ACF, HHS

ACTION: Notice of determination concerning funds available for reallotment.

CFDA Number: 93.568

Statutory Authority: 45 CFR 96.81 and 42 U.S.C. 8621 et seq.

SUMMARY: In accordance with Section 2607(b)(1) of the Low Income Home Energy Assistance Act (the Act), Title XXVI of the Omnibus Budget Reconciliation Act of 1981 (42 U.S.C. 8621, et seq.), as amended, a notice was published in the Federal Register on August 14, 2012 announcing the Secretary's preliminary determination that $3,089,920 of Fiscal Year (FY) 2011 funds may be available for re-allotment. After a 30-day comment period, this amount has not changed. This notice announces that $3,089,920 was reallotted on September 26, 2012 to FY 2012 Low Income Home Energy Assistance Program (LIHEAP) grantees, who were also grantees in FY 2011. Pursuant to the statute cited above, funds will be reallotted to LIHEAP grantees based upon the normal allocation formula as if the funds had been appropriated for FY 2013. Thus, at least 90% of these funds must be obligated by grantees by September 30, 2013, with the remainder to be obligated by September 30, 2014. No subgrantees or other entities may apply for these funds.

FOR FURTHER INFORMATION CONTACT: Nick St. Angelo, Director, Division of Energy Assistance, Office of Community Services, 370 L'Enfant Promenade, SW., Washington, DC 20447; telephone (202) 401-9351; email: nick.stangelo@acf.hhs.gov.

Dated: October 17, 2012.
Jeannie L. Chaffin,
Director, Office of Community Services.

[FR Doc. 2012-26076 Filed 10-22-12; 8:45 am]

BILLING CODE 4184-01-P